DEPARTMENT OF THE INTERIOR

Bureau of Land Management

[LLNMP01000 L16100000 DO0000]

Notice of Intent To Prepare a Resource Management Plan Amendment to the Roswell Resource Management Plan for the Fort Stanton—Snowy River Cave National Conservation Area and Associated Environmental Assessment, New Mexico

AGENCY: Bureau of Land Management, Interior.

ACTION: Notice of Intent.

SUMMARY: In compliance with the National Environmental Policy Act of 1969 (NEPA), as amended, the Federal Land Policy and Management Act of 1976 (FLPMA), as amended, and the Omnibus Public Land Management Act of 2009, the Bureau of Land Management (BLM) Roswell Field Office, Roswell, New Mexico, intends to prepare an amendment to the Roswell Resource Management Plan (RMP) with an associated Environmental Assessment (EA) to guide management of the Fort Stanton—Snowy River Cave National Conservation Area (NCA), and by this notice is announcing the beginning of the scoping process to solicit public comments and identify issues.

DATES: Comments on issues may be submitted in writing until April 8, 2010. The dates and locations of any scoping meetings will be announced at least 15 days in advance through local media and the BLM Web site at: http://www.blm.gov/nm/st/en.html. In order to be included in the Draft RMP amendment and EA, all comments must be received prior to the close of the scoping period or 15 days after the last public meeting, whichever is later. We will provide additional opportunities for public participation upon publication of the Draft RMP amendment and EA.

ADDRESSES: You may submit comments on issues and planning criteria related to the Fort Stanton—Snowy River Cave RMP amendment and EA by any of the following methods:

• Web Site: http://www.blm.gov/nm/st/en.html;

• E-mail: nmrfo_comments@blm.gov;

• Fax: 575-627-0276; and

• Mail: Roswell Field Office, 2909 W. 2nd St., Roswell, New Mexico 88201.

Documents pertinent to this proposal may be examined at the Roswell Field Office.

FOR FURTHER INFORMATION CONTACT: For further information and to have your name added to our mailing list, contact Howard Parman, Planning Team Leader, telephone 575-627-0212; address: Roswell Field Office, 2909 W. 2nd St., Roswell, New Mexico 88201; e-mail howard_parman@blm.gov.

SUPPLEMENTARY INFORMATION: The planning area is located in Lincoln County, New Mexico, and encompasses approximately 25,000 acres of public land. The purpose of the public scoping process is to determine relevant issues that will influence the scope of the environmental analysis, including alternatives, and guide the planning process. BLM personnel, Federal, State and local agencies, and other stakeholders have identified preliminary issues for the planning area. These issues include balancing protection of the Snowy River passages with access to Fort Stanton Cave, and coordinating with State and local agencies for more effective management of the NCA. Parts of Snowy River passages are unexplored, and may be within other governmental jurisdictions, specifically U.S. Forest Service lands (Lincoln National Forest) and lands owned by the Village of Ruidoso (Sierra Blanca Regional Airport).

Preliminary planning criteria include the following:

1. Management decisions set forth in the Fort Stanton—Snowy River Cave RMP amendment and EA will be in compliance with the Omnibus Public Land Management Act of 2009, FLPMA, and NEPA;

2. Decisions in the Fort Stanton—Snowy River Cave RMP amendment and EA will apply to the surface and subsurface estate managed by the BLM;

3. For program-specific guidance for decisions at the land use planning level, the process will follow the BLM's policies in the Land Use Planning Handbook, H-1601-1;

4. Public participation and collaboration will be an integral part of the planning process;

5. The BLM will strive to make decisions in the plan compatible with the existing plans and policies of adjacent local, State, and Federal agencies, and local American Indian tribes, as long as the decisions are consistent with the laws, regulations and policies governing the public lands;

6. The Fort Stanton—Snowy River Cave RMP amendment and EA will recognize valid existing rights;

7. The Fort Stanton—Snowy River Cave RMP amendment and EA will incorporate, where applicable, management decisions brought forward from existing planning documents;

8. The BLM staff will work cooperatively and collaboratively with cooperating agencies and all other interested groups, agencies, and individuals;

9. The BLM and cooperating agencies will jointly develop alternatives for resolution of resource management issues and management concerns;

10. Fire management strategies will be consistent with the Roswell Field Office Fire Management Plan (2004);

11. The BLM will consider public safety and welfare when addressing hazardous materials and fire management;

12. GIS and metadata information will meet Federal Geographic Data Committee standards, as required by Executive Order 12906, and all other applicable BLM data standards will be followed;

13. The planning process will provide for ongoing consultation with Tribes to identify strategies for protecting recognized traditional uses;

14. Planning and management direction will focus on the relative values of resources and not the combination of uses that will give the greatest economic return or economic output;

15. The BLM will consider the quantity and quality of non-commodity resource values;

16. The best available scientific information, research, and new technologies will be used in this planning effort;

17. Management decisions must allow for flexibility while supporting adaptive management principles; and

18. The Economic Profile System will be used as one source of demographic and economic data for the planning process, which will provide baseline data and contribute to estimates of existing and projected social and economic conditions.

You may submit comments on issues and planning criteria in writing to the BLM at any public scoping meeting, or you may submit them to the BLM using one of the methods listed in the ADDRESSES section above. To be most helpful, you should submit comments within 30 days after the last public meeting. Before including your address, phone number, e-mail address, or other personal identifying information in your comment, you should be aware that your entire comment—including your personal identifying information—may be made publicly available at any time. While you can ask us in your comment to withhold your personal identifying information from public review, we cannot guarantee that we will be able to do so. The minutes and list of attendees for each scoping meeting will be available to the public and open for 30 days after the meeting to any participant who wishes to clarify the views he or she expressed. The BLM will evaluate identified issues to be addressed in the plan, and will place them into one of three categories:

1. Issues to be resolved in the plan;

2. Issues to be resolved through policy or administrative action; and

3. Issues beyond the scope of this plan.

The BLM will provide an explanation in the Draft RMP amendment and EA as to why it placed an issue in category 2 or 3. The public is also encouraged to help identify any management questions and concerns that should be addressed in the plan. The BLM will work collaboratively with interested parties to identify the management decisions that are best suited to local, regional, and national needs and concerns.

The BLM will use an interdisciplinary approach to develop the plan in order to consider the variety of resource issues and concerns identified. Specialists with expertise in the following disciplines will be involved in the planning process: Rangeland management, minerals and geology, outdoor recreation, archaeology, paleontology, wildlife, lands and realty, hydrology, soils, sociology, economics, and cave resources.

Authority: 40 CFR 1501.3, 40 CFR 1501.7, 43 CFR 1610.2.

Linda S. C. Rundell,
New Mexico State Director.

[FR Doc. 2010-4974 Filed 3-8-10; 8:45 am]

BILLING CODE 4310-VA-P